DEPARTMENT OF TRANSPORTATION

Federal Railroad Administration

[Docket No. FRA 2016-0002-N-8]

Proposed Agency Information Collection Activities; Comment Request

AGENCY: Federal Railroad Administration (FRA), Department of Transportation.

ACTION: Notice and request for comments.

SUMMARY: In accordance with the Paperwork Reduction Act of 1995 and its implementing regulations, the Federal Railroad Administration (FRA) hereby announces that it is seeking an extension of the following currently approved information collection activities. On February 19, 2016, FRA published in the Federal Register its request for Emergency Clearance for new Form FRA F 6180.167, Bridge Inspection Report Public Version Request Form. See 81 FR 8588. The information collection activities associated with Form FRA F 6180.167 received a six-month emergency approval from OMB on February 25, 2016. FRA seeks a regular clearance (extension of the current approval for three years) to continue this effort to provide a means for a State or a political subdivision of a State to obtain a public version of a bridge inspection report generated by a railroad for a bridge located within their respective jurisdiction. Before submitting these information collection requirements for clearance by the Office of Management and Budget (OMB), FRA is soliciting public comment on specific aspects of the activities identified below.

DATES: Comments must be received no later than May 23, 2016.

ADDRESSES: Submit written comments on any or all of the following proposed activities by mail to either: Mr. Robert Brogan, Information Collection Clearance Officer, Office of Railroad Safety, Regulatory Safety Analysis Division, RRS-21, Federal Railroad Administration, 1200 New Jersey Ave. SE., Mail Stop 17, Washington, DC 20590, or Ms. Kimberly Toone, Information Collection Clearance Officer, Office of Information Technology, RAD-20, Federal Railroad Administration, 1200 New Jersey Ave. SE., Mail Stop 35, Washington, DC 20590. Commenters requesting FRA to acknowledge receipt of their respective comments must include a self-addressed stamped postcard stating, “Comments on OMB control number 2130-0586.” Alternatively, comments may be transmitted via facsimile to (202) 493-6216 or (202) 493-6497, or via email to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT:

Mr. Robert Brogan, Information Collection Clearance Officer, Regulatory Safety Analysis Division, RRS-21, Federal Railroad Administration, 1200 New Jersey Ave. SE., Mail Stop 25, Washington, DC 20590 (telephone: (202) 493-6292) or Ms. Kimberly Toone, Information Collection Clearance Officer, Office of Information Technology, RAD-20, Federal Railroad Administration, 1200 New Jersey Ave. SE., Mail Stop 35, Washington, DC 20590 (telephone: (202) 493-6132). (These telephone numbers are not toll-free.)

SUPPLEMENTARY INFORMATION:

The Paperwork Reduction Act of 1995 (PRA), Public Law 104-13, sec. 2, 109 Stat. 163 (1995) (codified as revised at 44 U.S.C. 3501-3520), and its implementing regulations, 5 CFR part 1320, require Federal agencies to provide notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the currently approved information collection request that FRA will submit for clearance by OMB as required under the PRA:

Title: Bridge Safety Standards.

OMB Control Number: 2130-0586.

Abstract: On December 4, 2015, President Obama signed into law the Fixing America's Surface Transportation Act (FAST Act) (Pub. L. 114-94). Section 11405, “Bridge Inspection Reports,” provides a means for a State or a political subdivision of a State to obtain a public version of a bridge inspection report generated by a railroad for a bridge located within their respective jurisdiction. While the FAST Act specifies that requests for such reports are to be filed with the Secretary of Transportation, the responsibility for fulfilling these requests is delegated to FRA.

FRA has revised its currently approved information collection to account for the additional burden that will be incurred by States and political subdivisions of States requesting a public version of a bridge inspection report generated by a railroad for a bridge located within their respective jurisdiction. FRA developed a new form titled “Bridge Inspection Report Public Version Request Form” (see below) to facilitate such requests by States and their political subdivisions. Additionally, FRA has revised its currently approved information collection to account for the additional burden that will be incurred by railroads to provide the public version of a bridge inspection report upon agency request to FRA.

As background, on July 15, 2010, FRA published its Bridge Safety Standards Final Rule. See 75 FR 41281. The final rule on bridge safety standards normalized and established federal requirements for railroad bridges. The final rule established minimum requirements to assure the structural integrity of railroad bridges and to protect the safe operation of trains over those bridges. The final rule required railroads/track owners to implement bridge management programs to prevent the deterioration of railroad bridges and to reduce the risk of human casualties, environmental damage, and disruption to the Nation's transportation system that would result from a catastrophic bridge failure. Bridge management programs were required to include annual inspection of bridges as well as special inspections, which must be conducted if natural or accidental events cause conditions that warrant such inspections. Lastly, the final rule required railroads/track owners to audit bridge management programs and bridge inspections and to keep records mandated under 49 CFR part 237. This final rule culminated FRA's efforts to develop and promulgate bridge safety regulations and fulfilled the Railroad Safety Improvement Act of 2008 (Pub. L. 110-432, Division A) mandate.

The information collected is used by FRA to ensure that railroads/track owners meet Federal standards for bridge safety and comply with all the requirements of this regulation. In particular, the collection of information is used by FRA to confirm that railroads/track owners adopt and implement bridge management programs to properly inspect, maintain, modify, and repair all bridges that carry trains over them for which they are responsible. Railroads/track owners must conduct annual inspections of railroad bridges. Further, railroads/track owners must incorporate provisions for internal audit into their bridge management program and must conduct internal audits of bridge inspection reports. The internal audit information is used by railroads/track owners to verify that the inspection provisions of the bridge management program are being followed and to continually evaluate the effectiveness of their bridge management program and bridge inspection activities. FRA uses this information to ensure that railroads/track owners implement a safe and effective bridge management program and bridge inspection regime.

Form Number(s): FRA F 6180.167.

Affected Public: States/Political Subdivisions of States and Businesses.

Respondent Universe: 50 States/State Political Subdivisions and 693 Railroads.

Frequency of Submission: On occasion.

Reporting Burden:

CFR Section | Respondent universe | Total annual responses | Average time per response | Total annual burden hours
NEW FAST ACT REQUIREMENTS | 50 States/State | 75 forms | 5 minutes | 6
—Form FRA F 6180.167 | Political Subdivision
—Railroad Submission to FRA of Bridge Inspection Report—Public Version | 693 Railroads | 75 reports | 60 minutes | 75
—237.3—Notifications to FRA of Assignment of Bridge Responsibility | 693 Railroads | 15 notifications | 90 minutes | 22.5
—Signed Statement by Assignee Concerning Bridge Responsibility | 693 Railroads | 15 signed statements | 30 minutes | 7.5
237.9—Waivers—Petitions | 693 Railroads | 6 petitions | 4 hours | 24
23731/33—Development/Adoption of Bridge Management Program | 693 Railroads | 5 plans | 24 hours | 120
237.57—Designation of Qualified Individuals | 693 Railroads | 1,000 designations | 30 minutes | 400
237.71—Determination of Bridge Load Capacities | 693 Railroads | 2,000 determinations | 8 hours | 16,000
237.73—Issuance of Instructions to Railroad Personnel by Track Owner | 693 Railroads | 2,000 instructions | 2 hours | 4,000
237.105—Special Bridge Inspections and Reports/Records | 693 Railroads | 7,500 insp. and reports/records | 12.50 hours | 93,750
—Special Underwater Inspections | 693 Railroads | 50 insp. and Reports/rcds. | 40 hours | 2,000
237.107 and 237.109—Nationwide Annual Bridge Inspections—Reports | 693 Railroads | 15,450 insp. & reports | 4 hours | 61,800
—Records | 693 Railroads | 15,450 records | 1 hour | 15,450
—Report of Deficient Condition on a Bridge | 693 Railroads | 50 reports | 30 minutes | 25
237.111—Review of Bridge Inspection Reports by RR Bridge Engineers | 693 Railroads | 2,000 insp. rpt. reviews | 30 minutes | 1,000
—Prescription of Bridge Insp. Procedure Modifications After Review | 693 Railroads | 200 insp. proc. modifications | 30 minutes | 100
237.131—Design of Bridge Modifications or Bridge Repairs | 693 Railroads | 1,250 designs | 16 hours | 20,000
—Bridge Modification Repair Reviews/Supervisory Efforts | 693 Railroads | 1,250 br. mod. repair reviews | 1.50 hours | 1,875
—Common Standard Designed by Railroad Bridge Engineer | 693 Railroads | 50 standards | 24 hours | 1,200
237.153—Audits of Inspections | 693 Railroads | 725 insp. audits | 80 hours/24 hours/6 hours | 5,534
237.155—Documents and Records | 693 Railroads | 5 systems | 80 hours | 400
—Establishment of RR Monitoring and Info. Technology Security Systems for Electronic Recordkeeping
—Employees Trained in System | 693 Railroads | 100 employees | 8 hours | 800

Total Estimated Responses for New FAST Act Requirements: 150.

Total Estimated Responses for Entire Information Collection: 49,271.

Total Estimated Total Annual Burden for New FAST Act Requirements: 81 hours.

Total Estimated Total Annual Burden Entire Information Collection: 224,689 hours.

Type of Request: Extension without change of a currently approved information collection under regular clearance procedures.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on March 18, 2016.
Amit Bose,
Chief Counsel.

FAST Act Bridge Inspection Report Requests

The Fixing America's Surface Transportation Act (FAST Act) (Pub. L. 114-94) (Dec. 4, 2015), Section 11405, “Bridge Inspection Reports,” provides a means for a State or a political subdivision of a State to obtain a public version of a bridge inspection report generated by a railroad for a bridge located within their respective jurisdiction. While the FAST Act specifies that requests for such reports are to be filed with the Secretary of Transportation, the responsibility for fulfilling these requests is delegated to the Federal Railroad Administration (FRA). See 49 CFR 1.89. The text of Section 11405 of the FAST Act is provided in attachment 1.

Frequently Asked Questions

Q. Who can make a request for a bridge inspection report under Section 11405 of the FAST Act?

A. Section 11405 of the FAST Act permits a State or a political subdivision of a State to file a request for a public version of a bridge inspection report for a bridge located in that State or political subdivision's jurisdiction. Thus, any duly elected or appointed official of a State or political subdivision of a State, acting in his or her official capacity, may file a request. This includes officials of a State, city, county, town, municipality or other political subdivision of a State.

Q. What information do I need to provide in my request?

A. Go to FRA's Web site (www.fra.dot.gov) and click on the Bridge Inspection Report link and fill out the “Bridge Inspection Report Public Version Request Form” (FRA F 6180.167) in its entirety (a link to the form is provided at the end of these questions). Please provide the following information:

• Your name and title;

• Official address;

• Email address;

• Telephone number;

• Identification of the individual bridge(s) for which you are requesting a public version of a bridge inspection report(s). Bridge identification information could include a street name, a nearby intersecting street, a waterway or a recognizable land feature where appropriate;

• Name of the railroad that owns and/or operates over the requested bridge(s) (if known); and

• An indication that the request is being made in your official capacity as a representative of a State or a political subdivision of a State. The bridge(s) for which the inspection report(s) is sought must be within the jurisdiction of the political subdivision of the State you represent.

Q. How do I file my request?

A. You can file a request by going to FRA's Web site (www.fra.dot.gov) and clicking on the Bridge Inspection Report link. There you will find the “Bridge Inspection Report Public Version Request Form” (FRA F 6180.167). Please complete this pdf fillable form by providing all of the information listed in the question above and click on the “submit” box when completed. This will automatically create an email that will send the completed form directly to FRA. A link to the form has also been provided at the end of these questions below.

If you are unable to submit the form to FRA directly, please fill out the “Bridge Inspection Report Public Version Request Form” (FRA F 6180.167) and attach it in an email to FRABridgeInspectionReportRequest@dot.gov. Requests will only be accepted through this email address with the proper form completely filled out and attached.

Q. How will FRA handle a request?

A. FRA will evaluate the request and, if found to be compliant with law, FRA will promptly request that the railroad responsible for the bridge provide a public version of the most recent inspection report(s) to FRA. Once FRA has received the report(s), FRA will review the report(s) to ensure that at least the minimum information required by law has been provided. Once determined to be satisfactory, the report(s) will be sent to the requester electronically by reply to the request unless the requester provides an alternate email address to send the report to.

Q. What information must a railroad include in the public version of the bridge inspection report provided to FRA?

A. The FAST Act requires the following information to be included in a public version of a bridge inspection report:

1. The date of the last inspection;

2. Length of bridge;

3. Location of bridge;

4. Type of bridge (superstructure);

5. Type of structure (substructure);

6. Features crossed by the bridge;

7. Railroad contact information; and

8. A general statement on the condition of the bridge.

Q. How much time does a railroad have to provide the public version of a bridge inspection report to FRA?

A. FRA interprets the statute to require a railroad to provide a requested report containing at least the minimum specified information within a reasonable amount of time. FRA believes that a reasonable time for a railroad to provide a requested report is within 30 days of receipt of FRA's request.

Q. How long will it take FRA to produce a public version of a bridge inspection report to a requester?

A. FRA will handle these requests as expeditiously as possible and generally expects to respond to most requests by providing the requester with a public version of a bridge inspection report within 45 days of receipt of the request.

(Link to Form will be located here)

Attachment 1 to Frequently Asked Questions

FAST Act—Section 11405—Bridge Inspection Reports

Section 417(d) of the Rail Safety Improvement Act of 2008 (49 U.S.C. 20103 note) is amended—(1) by striking “The Secretary” and inserting the following: “(1) IN GENERAL.—The Secretary”; and (2) by adding at the end the following: “(2) AVAILABILITY OF BRIDGE CONDITION.—

“(A) IN GENERAL.—A State or political subdivision of a State may file a request with the Secretary for a public version of a bridge inspection report generated under subsection (b)(5) for a bridge located in such State or political subdivision's jurisdiction.

“(B) PUBLIC VERSION OF REPORT.—If the Secretary determines that the request is reasonable, the Secretary shall require a railroad to submit a public version of the most recent bridge inspection report, such as a summary form, for a bridge subject to a request under subparagraph (A). The public version of a bridge inspection report shall include the date of last inspection, length of bridge, location of bridge, type of bridge, type of structure, feature crossed by bridge, and railroad contact information, along with a general statement on the condition of the bridge.

“(C) PROVISION OF REPORT.—The Secretary shall provide to a State or political subdivision of a State a public version of a bridge inspection report submitted under subparagraph (B).

“(D) TECHNICAL ASSISTANCE.—The Secretary, upon the reasonable request of State or political subdivision of a State, shall provide technical assistance to such State or political subdivision of a State to facilitate the understanding of a bridge inspection report.”

[FR Doc. 2016-06583 Filed 3-23-16; 8:45 am]

BILLING CODE 4910-06-P